DEPARTMENT OF DEFENSE

Department of the Navy

[Docket ID: USN-2008-0065]

Privacy Act of 1974; System of Records

AGENCY: Department of the Navy, DoD.

ACTION: Notice To Add a System of Records.

SUMMARY: The Department of the Navy proposes to add a system of records to its inventory of record systems subject to the Privacy Act of 1974 (5 U.S.C. 552a), as amended.

DATES: The changes will be effective on January 12, 2009 unless comments are received that would result in a contrary determination.

ADDRESSES: Send comments to Mrs. Miriam Brown-Lam, HEAD, FOIA/Privacy Act Policy Branch, the Department of the Navy, 2000 Navy Pentagon, Washington, DC 20350-2000.

FOR FURTHER INFORMATION CONTACT: Mrs. Miriam Brown-Lam (202) 685-6545.

SUPPLEMENTARY INFORMATION: The Department of the Navy systems of records notice subject to the Privacy Act of 1974 (5 U.S.C. 552a), as amended, has been published in the Federal Register and is available from the address above.

The proposed systems reports, as required by 5 U.S.C. 552a(r) of the Privacy Act of 1974, as amended, were submitted on December 4, 2008, to the House Committee on Government Report, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 8, 2008.
Morgan E. Frazier,
Alternate OSD, Federal Register Liaison Officer, Department of Defense.

NM-05724-1

SYSTEM NAME:

Fleet Hometown News System (FHNS) Records.

SYSTEM LOCATION:

Fleet Hometown News Center, 9420 Third Ave., Norfolk, VA 23511-2125.

CATEGORIES OF INDIVIDUALS COVERED BY THE SYSTEM:

Active-duty Navy, Marine Corps and Coast Guard personnel.

CATEGORIES OF RECORDS IN THE SYSTEM:

Biographical information submitted includes full name, Social Security Number (SSN), rank, gender, marital status, date entered service, branch of service, duty status, Command mailing address, spouse's first name, father's name and address, mother's name and address, father-in-law's name and address, mother-in-law's name and address, high school and college/university complete names, graduation dates, city, state, and zip codes, and duty to which assigned/job title.

AUTHORITY FOR MAINTENANCE OF THE SYSTEM:

10 U.S.C. 5013, Secretary of the Navy; 10 U.S.C. 5041, Headquarters, Marine Corps; SECNAVINST 5724.3A, Fleet Hometown News Program Policy and Procedures; and E.O. 9397 (SSN).

PURPOSE(S):

Information is collected and maintained to generate public awareness of the accomplishments of Navy, Marine Corps, and Coast Guard personnel by distributing news releases and photographs to the hometown news media of individual service members. Hometown news media include, but are not limited to, newspapers, radio and television stations, and college/university alumni publications throughout the United States and its territories and their respective Web sites. Release of this information is done with the individual's full cooperation and written consent.

ROUTINE USES OF RECORDS MAINTAINED IN THE SYSTEM, INCLUDING CATEGORIES OF USERS AND THE PURPOSES OF SUCH USES:

The DoD `Blanket Routine Uses' that appear at the beginning of the Navy's compilation of systems of records notices apply to this system.

POLICIES AND PRACTICES FOR STORING, RETRIEVING, ACCESSING, RETAINING, AND DISPOSING OF RECORDS IN THE SYSTEM:

STORAGE:

Paper records and electronic storage media.

RETRIEVABILITY:

By individual's name and Social Security Number (SSN).

SAFEGUARDS:

Records are maintained in a controlled facility. Physical entry is restricted by the use of locks, guards, and is accessible only to authorized personnel. Access to computerized data is restricted by passwords, which are changed periodically. Data sent by Public Affairs Officers Hometown News Service is over a secure connection. Access to records is limited to person(s) responsible for servicing the record in performance of their official duties and who are properly screened and cleared for need-to-know.

RETENTION AND DISPOSAL:

Records are destroyed one year after submission. Paper records are destroyed by shredding, burning or pulping. Electronic records are destroyed by erasing, deleting or overwriting.

SYSTEM MANAGER(S) AND ADDRESS:

SPAWAR Systems Center Atlantic, Code 54550, FORCEnet Engineering and Technology Support Branch—IT Umbrella Program Support—Tidewater Node of the FORCEnet Composeable Environment, 9456 Fourth Ave., Bldg. V53, Room 340, Norfolk, VA 23511-2125.

NOTIFICATION PROCEDURES:

Individuals seeking to determine whether this system of records contains information about themselves should address written inquiries to the Fleet Hometown News System Manager, 9420 Third Ave., Norfolk, VA 23511-2125.

Written and signed requests must contain name and Social Security Number (SSN).

RECORDS ACCESS PROCEDURES:

Individuals seeking access to records about themselves contained in this system of records should address written inquiries to the Fleet Hometown News System Manager, 9420 Third Ave., Norfolk, VA 23511-2125.

Written and signed requests must contain name and Social Security Number (SSN).

CONTESTING RECORD PROCEDURES:

The Navy's rules for accessing records, for contesting contents and appealing initial agency determinations are published in Secretary of the Navy Instruction 5211.5; 32 CDR part 701; or may be obtained from the system manager.

RECORD SOURCE CATEGORIES:

From the individual.

EXEMPTIONS CLAIMED FOR THE SYSTEM:

None.

[FR Doc. E8-29400 Filed 12-11-08; 8:45 am]

BILLING CODE 5001-06-P